POSTAL SERVICE

Product Change—Priority Mail Express, Priority Mail, and USPS Ground Advantage Negotiated Service Agreements; Priority Mail, and USPS Ground Advantage Negotiated Service Agreements; Priority Mail Negotiated Service Agreements; USPS Ground Advantage Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: June 12, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
6/2/2025 | PM-GA 770 | MC2025-1468 | K2025-1464.
6/2/2025 | PME-PM-GA 1374 | MC2025-1469 | K2025-1465.
6/2/2025 | PM 858 | MC2025-1470 | K2025-1466.
6/3/2025 | PM 859 | MC2025-1471 | K2025-1467.
6/3/2025 | PM 860 | MC2025-1472 | K2025-1468.
6/3/2025 | PM 861 | MC2025-1473 | K2025-1469.
6/3/2025 | PM 862 | MC2025-1474 | K2025-1470.
6/3/2025 | PM 863 | MC2025-1475 | K2025-1471.
6/3/2025 | PM-GA 771 | MC2025-1476 | K2025-1472.
6/3/2025 | PM-GA 772 | MC2025-1477 | K2025-1473.
6/3/2025 | PME-PM-GA 1375 | MC2025-1478 | K2025-1474.
6/4/2025 | PM 864 | MC2025-1479 | K2025-1475.
6/4/2025 | PM 865 | MC2025-1480 | K2025-1476.
6/4/2025 | PM 866 | MC2025-1481 | K2025-1477.
6/4/2025 | PM-GA 773 | MC2025-1482 | K2025-1478.
6/4/2025 | PM 867 | MC2025-1484 | K2025-1479.
6/4/2025 | PM 868 | MC2025-1485 | K2025-1480.
6/4/2025 | PM 869 | MC2025-1486 | K2025-1481.
6/4/2025 | PME-PM-GA 1376 | MC2025-1487 | K2025-1482.
6/5/2025 | PM 871 | MC2025-1489 | K2025-1484.
6/5/2025 | PM-GA 774 | MC2025-1490 | K2025-1485.
6/5/2025 | PM-GA 775 | MC2025-1491 | K2025-1486.
6/5/2025 | PM-GA 776 | MC2025-1492 | K2025-1487.
6/5/2025 | PM 872 | MC2025-1494 | K2025-1489.
6/5/2025 | PM 873 | MC2025-1495 | K2025-1490.
/5/2025 | PME-PM-GA 1377 | MC2025-1496 | K2025-1491.
6/5/2025 | PME-PM-GA 1378 | MC2025-1497 | K2025-1492.
6/6/2025 | PM-GA 777 | MC2025-1498 | K2025-1493.
6/6/2025 | PM 874 | MC2025-1499 | K2025-1494.

Documents are available at www.prc.gov.

Sean C. Robinson,
Attorney, Corporate and Postal Business Law.

[FR Doc. 2025-10648 Filed 6-11-25; 8:45 am]

BILLING CODE 7710-12-P